NUCLEAR REGULATORY COMMISSION

[NRC-2023-0001]

Sunshine Act Meetings

TIME AND DATE: Week of December 11, 2023.

PLACE: Via Webcast.

STATUS: Open.

MATTERS TO BE CONSIDERED:

Week of December 11, 2023

Tuesday, December 12, 2023

9:55 a.m. Affirmation Session (Public Meeting) (Tentative), Kairos Power, LLC (Hermes Test Reactor Construction Permit Application), Docket No. 50-7513-CP, Mandatory Hearing Decision (Tentative) (Contact: Wesley Held: 301-287-3591)

ADDITIONAL INFORMATION: By a vote of 4-0 on December 8 and 11, 2023, the Commission determined pursuant to 5 U.S.C. 552b(e)(1) and 10 CFR 9.107 that this item be affirmed with less than one week notice to the public. The item will be affirmed in the meeting being held on December 12, 2023. The public is invited to attend the Commission's meeting live by webcast at the Web address— https://video.nrc.gov/.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Betty.Thweatt@nrc.gov or Samantha.Miklaszewski@nrc.gov.

The NRC is holding the meetings under the authority of the Government in the Sunshine Act, 5 U.S.C. 552b.

Dated: December 11, 2023.
For the Nuclear Regulatory Commission.
Wesley W. Held,
Policy Coordinator, Office of the Secretary.

[FR Doc. 2023-27479 Filed 12-11-23; 4:15 pm]

BILLING CODE 7590-01-P